DEPARTMENT OF TRANSPORTATION

Federal Highway Administration

Environmental Impact Statement: Bronx County, NY

AGENCY: Federal Highway Administration (FHWA), DOT.

ACTION: Notice of intent.

SUMMARY: The FHWA is issuing this notice to advise the public that an Environmental Impact Statement (EIS) will be prepared for a proposed construction project for the Bruckner-Sheridan Expressway Interchange and for Improved Access to the Hunts Point Peninsula, in Bronx County, New York.

FOR FURTHER INFORMATION CONTACT: Douglas Currey, P.E., Regional Director, New York State Department of Transportation, Hunters Point Plaza 47-40 21st Street, Long Island City, New York 11101, Telephone: (718) 482-4526; or Robert Arnold, Division Administrator, Federal Highway Administration, New York Division, Leo W. O'Brien Federal Building, 7th Floor, Clinton Avenue and North Pearl Street, Albany, New York 12207, Telephone (518) 431-4127.

SUPPLEMENTARY INFORMATION: The FHWA, in cooperation with the New York State Department of Transportation (NYSDOT) will prepare an Environmental Impact Statement on the proposal to improve safety and traffic flow at the Bruckner Expressway (I-278) at its interchange with the Arthur V. Sheridan Expressway (I-895) as well as to improve access in and out of the Hunts Points Peninsula from the Expressway System.

The objectives of the project are:

• Effectively move people and goods in faster, safer and easier ways by improving the existing roadways, bridges, bicycle paths and pedestrian walkways. This will include improvements to the Bruckner-Sheridan Interchange and local arterials for a better access into and from the Hunts Point Peninsula.

• Reduce the number of accidents in the project area and increase pedestrian safety at busy intersections, such as at Bruckner Boulevard and Hunts Points Ave.

• Support economic development by providing easier access to and from the Hunts Point Peninsula, while eliminating the bottlenecks at the Bruckner Expressway.

• Enhance the quality of life for the residential community by reducing the volume of commercial vehicles on residential streets and easing congestion for motorists traveling through the project area.

• Support environmental enhancements in coordination with City, State and Federal Agencies.

Alternatives: Various alternatives have already been identified through past studies. The findings of the past studies will be used as a starting point and will be included with new alternatives that will be developed through an extensive public scoping process. The list of alternatives and solutions will be refined throughout the scoping process as the public's comments and suggestions are taken into consideration.

Alternatives identified to date include:

No Action—An analysis of the current infrastructure and the likely state of the area's infrastructure, levels of congestion, etc. in the future without any improvements.

Transportation Systems Management—This would provide a strategy to make the most of the current transportation network with minimal capital investment. Emphasis will be placed on operating improvements and strategic upgrades such as the installation of various traffic control devices (e.g., Directional Signs) throughout the corridor.

Build—These includes the long-term alternatives and are more detailed and complex:

• Reconstruction of the Bruckner-Sheridan Interchange to improve highway geometrics in the area adjacent to the Bronx River by creating flyover structures above the Bronx River. This alternative was identified in the Expanded Project Proposal and will be further investigated during the EIS Process.

• Improve Access into and out the Hunts Point Peninsula via Edgewater Road, by reconstructing the southern terminus of the Sheridan Expressway. This alternative was identified in the Expanded Project Proposal and will be further investigated during the EIS Process.

• Construction of Ramps from the Bruckner Expressway at Leggett Avenue at the Bruckner Expressway is also aimed at improved access to the Hunts Point Peninsula. This alternative was identified during past public involvement and will be expanded upon during this process.

• Construction of a road/rail improvement to Hunts Point from Port Morris along the water and rail lines to improve access in and out the Hunts Point Peninsula.

• Deconstruction of the Sheridan Expressway will be investigated as a potential element of some alternatives.

Letters describing the proposed action and soliciting comments will be sent to Federal, State and local agencies, and to private organizations and citizens who have previously expressed interest in this proposal. In addition to scoping discussion with these interested parties, the general public will have the opportunity to make scoping comments both in writing and in person at Public Information/Scoping Meetings that will be held at the Hunts Point Branch Regional Library, 877 Southern Boulevard, Bronx, NY 10459, on March 18, 2003, from 5 p.m. to 9 p.m., and at the Bronx Borough Board Briefing Room, 198 East 161st Street, 2nd Floor, Bronx, NY 10451, on March 20, 2003, from 5 p.m. to 9 p.m. After the DEIS is prepared, it will be available for public and agency review and comment. This will be followed by a public hearing. Public notice will be given of the time and place of the hearing.

To ensure that the full range of issues related to this proposed action area addressed and all significant issues identified, comments and suggestions are invited from all interested parties. Comments or questions concerning this proposed action should be directed to the NYSDOT and FHWA at the addresses provided above.

(Catalog of Federal Domestic Assistance Program Number 20.205, Highway Research, Planning and Construction. The regulations implementing Executive Order 12372 regarding intergovernmental consultation on Federal programs and activities apply to this program.)

Authority: 23 U.S.C. 315; 23 CFR 771.123.

Issued on: February 12, 2003.
David M. Hart,
Senior Operations Engineer, Federal Highway Administration, Albany, NY.

[FR Doc. 03-4029 Filed 2-19-03; 8:45 am]

BILLING CODE 4910-22-M